DEPARTMENT OF ENERGY

Federal Energy Regulatory Commission

[Docket No. EL06-105-000]

NorthWestern Corporation; Notice of Extension of Time

October 17, 2006.

On October 10, 2006, PPL EnergyPlus, LLC and PPL Montana, LLC (collectively “the PPL Companies”) filed a motion for an extension of time to file comments in response to the Commission's Notice of Filing issued September 21, 2006, in the above-docketed proceeding. The motion states that the PPL Companies require additional time in order to access and review relevant data and also to allow PPL Companies to participate in an upcoming meeting between NorthWestern Corporation (NorthWestern) and the Open Season participants which will facilitate the evaluation of NorthWestern's proposal in this docket.

Upon consideration, notice is hereby given that an extension of time for filing comments is granted to and including November 6, 2006.

Magalie R. Salas,
Secretary.

[FR Doc. E6-17787 Filed 10-23-06; 8:45 am]

BILLING CODE 6717-01-P